FEDERAL COMMUNICATIONS COMMISSION

[FRS 16701]

Deletion of Items From April 23, 2020 Open Meeting

April 23, 2020.

The following items have been adopted by the Commission and deleted from the list of items scheduled for consideration at the Thursday, April 23, 2020, Open Meeting. The items were previously listed in the Commission's Notice of Thursday, April 16, 2020.

Item No. | Bureau | Subject
4 | INTERNATIONAL | TITLE: ViaSat, Inc., Petition for Declaratory Ruling Granting Access for a Non-U.S.-Licensed Non-Geostationary Orbit Satellite Network (IBFS File No. SAT-PDR-20161115-00120 and SAT-APL-20180927-00076).
|  | SUMMARY: The Commission will consider an Order and Declaratory Ruling that would grant ViaSat's request for U.S. market access to offer broadband services using a proposed constellation of non-geostationary orbit satellites.
5 | MEDIA | TITLE: Amendments of Parts 73 and 74 to Improve the Low Power FM Radio Service Technical Rules (MB Docket No. 19-193); Modernization of Media Regulation Initiative (MB Docket No. 17-105).
|  | SUMMARY: The Commission will consider a Report and Order that would modernize the LPFM technical rules to provide more regulatory flexibility for licensees.
6 | MEDIA | TITLE: Video Description: Implementation of the Twenty-First Century Communications and Video Accessibility Act of 2010 (MB Docket No. 11-43).
|  | SUMMARY: The Commission will consider a Notice of Proposed Rulemaking that would propose to expand video description requirements to 40 additional local television markets over the next four years to increase the accessibility of programming to blind and visually impaired Americans.

Federal Communications Commission.
Marlene Dortch,
Secretary, Office of the Secretary.

[FR Doc. 2020-09021 Filed 4-28-20; 8:45 am]

BILLING CODE 6712-01-P